DEPARTMENT OF THE INTERIOR

Bureau of Indian Affairs

Sisseton and Wahpeton Mississippi Sioux Enrollment Application Deadline

AGENCY: Bureau of Indian Affairs, Interior.

ACTION: Notice.

SUMMARY: Notice is hereby given of the deadline for filing enrollment applications to share in the Sisseton and Wahpeton Mississippi Sioux judgment fund distribution to the lineal descendants authorized under 25 U.S.C. 1300d-3(b). This notice is published in accordance with the enrollment regulations contained in 25 CFR 61.4(s)(2).

FOR FURTHER INFORMATION CONTACT: Daisy West, Bureau of Indian Affairs, Division of Tribal Government Services, MS-4631-MIB, 1849 C Street, NW., Washington, DC 20240. Telephone number: (202) 208-2475.

SUPPLEMENTARY INFORMATION: This notice is published in exercise of authority delegated to the Assistant Secretary—Indian Affairs under 25 U.S.C. 2 and 9 and 209 DM 8.

Sisseton and Wahpeton Mississippi Sioux Enrollment Application Deadline

The regulations governing the enrollment application process were published in the Federal Register on April 23, 1999, 64 FR 19896. The three-step process for establishing the application deadline date was set forth as follows:

Step 1. On August 23, 1999, we will count all applications that we have received.

Step 2. We will note the date on which we complete processing 90 percent of the applications that we receive by August 23, 1999.

Step 3. The application deadline will be 90 days after the date in Step 2.

On August 23, 1999, we received 2,597 enrollment applications. On February 1, 2001, we completed processing 2,338 applications which is 90 percent of the applications received as of August 23, 1999. The deadline date for filing enrollment applications to share in the Sisseton and Wahpeton Mississippi Sioux judgment fund distribution to the lineal descendants is hereby established as of close of business on Wednesday, May 2, 2001.

Application forms filed by mail must be postmarked no later than midnight on May 2, 2001. Where there is no postmark date showing on the envelope or the postmark is illegible, applications forms mailed from within the United States, including Alaska and Hawaii, received more than 15 days and application forms mailed from outside of the United States received more than 30 days after May 2, 2001, in the office of the Great Plains Region Director (formerly the Aberdeen Area Director) will be denied for failure to file in time.

Applications forms filed by personal delivery must be received in the office of the Great Plains Region Director no later than 4:30 p.m. Central Daylight Savings time on May 2, 2001.

The enrollment applications can be obtained from the Bureau of Indian Affairs website at http://www.doi.gov/bureau-indian-affairs.html or by mail from the Great Plains Region Office, Bureau of Indian Affairs, 115 4th Avenue, SE, Aberdeen, SD 57401.

Dated: February 28, 2001.
James H. McDivitt,
Deputy Assistant Secretary—Indian Affairs (Management).

[FR Doc. 01-5833 Filed 3-8-01; 8:45 am]

BILLING CODE 4310-02-P